DEPARTMENT OF TRANSPORTATION

Federal Railroad Administration

[Docket Number FRA-2011-0070]

Petition for Waiver of Compliance

In accordance with Part 211 of Title 49 of the Code of Federal Regulations (CFR), this document provides the public notice that by documents dated July 21 and July 27, 2011, the American Association of Private Railroad Car Owners, Inc. (AAPRCO) has petitioned the Federal Railroad Administration (FRA) for a waiver of compliance from certain provisions of the Federal railroad safety regulations contained at 49 CFR parts 232 and 238. FRA assigned the petition Docket Number FRA-2011-0070.

AAPRCO seeks a waiver of compliance from certain requirements of 49 CFR part 232, Brake System Safety Standards for Freight and Other Non-Passenger Trains and Equipment; End-of-Train Devices and 49 CFR part 238, Passenger Equipment Safety Standards. Presently, privately owned passenger cars (PV), operated on National Railroad Passenger Corporation (Amtrak) trains (or other passenger trains subject to the applicable regulations of part 238), are permitted a periodic brake maintenance interval according to 49 CFR 238.309(d). However, when the same PVs are operated in freight trains for movement between their storage or maintenance facilities and Amtrak, the applicable regulation for periodic brake maintenance is the more restrictive of Appendix B to 49 CFR 232.17(b)(2). AAPRCO requests that PVs that are subject to the maintenance requirements of Part 238, certified by an annual inspection (“PC1”) by an Amtrak authorized inspector, and have been issued an Amtrak 800000 series car number, be permitted to operate with the inspection intervals of 49 CFR 238.309(d) when off the Amtrak system in freight trains.

In addition, AAPRCO requests a waiver from the maintenance requirement of 49 CFR 238.307(c)(9) requiring that “an extensive inspection of all center castings shall be conducted * * * at each COT&S cycle provided in [Section] 238.309 for the equipment.” AAPRCO states that the “Amtrak required 200,000 mile/10-year inspection (‘PC2/PC2A’) of the center castings” provides for a more frequent inspection in terms of operating mileage than that required for Amtrak and commuter-operated equipment, which typically travel 360,000 miles per year. Therefore, AAPRCO requests consideration of the PC2/PC2A inspection as an alternate compliance with 49 CFR 238.307(c)(9).

A copy of the petition, as well as any written communications concerning the petition, is available for review online at http://www.regulations.gov and in person at the U.S. Department of Transportation's (DOT) Docket Operations Facility, 1200 New Jersey Ave., SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by November 7, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on September 14, 2011.
Robert C. Lauby,
Deputy Associate Administrator for Regulatory and Legislative Operations.

[FR Doc. 2011-24156 Filed 9-20-11; 8:45 am]

BILLING CODE 4910-06-P